NUCLEAR REGULATORY COMMISSION

Entergy Nuclear Operations, Inc., Indian Point Nuclear Generating Unit Nos. 2 and 3; Notice of Opportunity for Hearing Regarding Renewal of Facility Operating License Nos. DPR-26 and DPR-64 for an Additional 20-Year Period: Extension of Time for Filing of Requests for Hearing or Petitions for Leave To Intervene in the License Renewal Proceeding

AGENCY: U.S. Nuclear Regulatory Commission.

ACTION: License renewal: Extension of time for the filing of requests for hearing or petitions for leave to intervene in the license renewal proceeding.

SUMMARY: On August 1, 2007 (72 FR 42134), the Nuclear Regulatory Commission (NRC) announced its acceptance for docketing of the application and notice of opportunity for hearing for the renewal of Operating License Nos. DPR-26 and DPR-64, which authorize Entergy Nuclear Operations, Inc. to operate Indian Point Nuclear Generating Unit Nos. 2 and 3, respectively, at 3216 megawatts thermal (MWt) for each unit. A sixty-day period was provided for the filing of written requests for a hearing or petitions for leave to intervene with respect to the renewal of the license. The period for the filing of requests for a hearing or petitions for leave to intervene was to have expired on October 1, 2007.

The period for the filing of requests for a hearing or petitions for leave to intervene has been extended and now expires on November 30, 2007. The period for filling answers to such requests or petitions has also been extended.

DATES: The period for the filing of requests for a hearing or petitions for leave to intervene has been extended and now expires on November 30, 2007. Answers to such requests or petitions are now due on January 11, 2008, and replies to those answers are due on January 18, 2008 (see 10 CFR 2.309(h)). Non-timely requests and/or petitions and contentions will not be entertained absent a determination of the Commission, the presiding officer, or the Atomic Safety and Licensing Board that the petition, request and/or contentions should be granted based on a balancing of the factors specified in 10 CFR 2.309(a)(1)(i)-(viii).

ADDRESSES: A request for a hearing or a petition for leave to intervene must be filed by: (1) First class mail addressed to the Office of the Secretary of the Commission, U.S. Nuclear Regulatory Commission, Washington, DC 20555-0001, Attention: Rulemaking and Adjudications Staff; (2) Courier, express mail, and expedited delivery services to the Office of the Secretary, Sixteenth Floor, One White Flint North, 11555 Rockville Pike, Rockville, Maryland 20852, Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC, Attention: Rulemaking and Adjudications Staff at 301-415-1101 (verification number: 301-415-1966).¹ A copy of the request for hearing or petition for leave to intervene must also be sent to the Office of the General Counsel, U.S. Nuclear Regulatory Commission, Washington, DC 20555-0001, and it is requested that copies be transmitted either by means of facsimile transmission to 301-415-3725 or by e-mail to OGCMailCenter@nrc.gov. A copy of the request for hearing or petition for leave to intervene should also be sent to the Assistant General Counsel, Entergy Nuclear Operations, Inc., 440 Hamilton Avenue, White Plains, NY 10601.

¹ If the request/petition is filed by e-mail or facsimile, an original and two copies of the document must be mailed within 2 (two) business days thereafter to the Secretary, U.S. Nuclear Regulatory Commission, Washington, DC 20555-0001, Attention: Rulemaking and Adjudications Staff.

Detailed information about the license renewal process can be found under the Nuclear Reactors icon at http://www.nrc.gov/reactors/operating/licensing/renewal.html on the NRC's Web site. Copies of the application to renew the operating licenses for Indian Point Nuclear Generating Unit Nos. 2 and 3 are available for public inspection at the Commission's Public Document Room (PDR), located at One White Flint North, 11555 Rockville Pike (first floor), Rockville, Maryland 20852-2738. The same documents may also be viewed and downloaded electronically via the applications Web site, http://www.nrc.gov/reactors/operating/licensing/renewal/applications.html, while the application is under review. The application may be accessed in ADAMS through the NRC's Public Electronic Reading Room on the Internet at http://www.nrc.gov/reading-rm/adams.html under ADAMS Accession Numbers ML071210507, ML071280700, and ML071800318. Persons who do not have access to ADAMS or who encounter problems in accessing the documents located in ADAMS may contact the NRC PDR Reference staff at 1-800-397-4209 or 301-415-4737 or by e-mail to pdr@nrc.gov.

The NRC staff has verified that a copy of the license renewal application is also available to local residents near Indian Point Nuclear Generating Unit Nos. 2 and 3 at the White Plains Public Library, 100 Martine Avenue, White Plains, NY 10601; the Field Library, 4 Nelson Avenue, Peekskill, NY 10566; and the Hendrick Hudson Free Library, 185 Kings Ferry Road, Montrose, NY 10548.

Dated at Rockville, Maryland, this 25th day of September 2007.
For the U.S. Nuclear Regulatory Commission.
Annette L. Vietti-Cook,
Secretary of the Commission.

[FR Doc. E7-19311 Filed 9-28-07; 8:45 am]

BILLING CODE 7590-01-P